DEPARTMENT OF JUSTICE

Drug Enforcement Administration

Manufacturer of Controlled Substances; Notice of Application

Pursuant to section 1301.33(a) of Title 21 of the Code of Federal Regulations (CFR), this is notice that on June 8, 2005, National Center for Natural Products Research, University of Mississippi, 135 Coy Waller Lab Complex, University, Mississippi 38677, made application to the Drug Enforcement Administration (DEA) to be registered as a bulk manufacturer of the basic class of controlled substances listed in Schedule I:

Drug | Schedule
Marihuana (7360) | I
Tetrahydrocannabinols (7370) | I

The company plans to bulk manufacture the controlled substances to prepare marihuana extract for further purification into bulk active delta-9-THC for use in launching FDA approved pharmaceutical products.

Any other such applicant and any person who is presently registered with DEA to manufacture such a substance may file comments or objections to the issuance of the proposed registration pursuant to 21 CFR 1301.33(a).

Any such written comments or objections being sent via regular mail may be addressed, in quintuplicate, to the Deputy Assistant Administrator, Office of Diversion Control, Drug Enforcement Administration, Washington, DC 20537, Attention: DEA Federal Register Representative, Liaison and Policy Section (ODL); or any being sent via express mail should be sent to DEA Headquarters, Attention: DEA Federal Register Representative/ODL, 2401 Jefferson-Davis Highway, Alexandria, Virginia 22301; and must be filed no later than October 11, 2005.

Dated: August 5, 2005.
William J. Walker,
Deputy Assistant Administrator, Office of Diversion Control, Drug Enforcement Administration.

[FR Doc. 05-15971 Filed 8-11-05; 8:45 am]

BILLING CODE 4410-09-P